COMMITTEE FOR PURCHASE FROM PEOPLE WHO ARE BLIND OR SEVERELY DISABLED

Procurement List; Proposed Addition

AGENCY: Committee for Purchase From People Who Are Blind or Severely Disabled.

ACTION: Proposed addition to the procurement list.

SUMMARY: The Committee is proposing to add to the Procurement List a service to be furnished by the nonprofit agency employing persons who are blind or have other severe disabilities.

DATES: Comments Must be Received on or Before: 7/13/2009.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed addition, the entities of the Federal Government identified in this notice for each service will be required to procure the service listed below from nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the service to the Government.

2. If approved, the action will result in authorizing small entities to furnish the service to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agency listed:

Services

Service Type/Locations: Consolidated Base Operation Support (BOS).

Naval & Marine Corps Reserve Center, 1600 Lafayette Ave., Moundsville, WV;

Naval Reserve Center, 1200 Navy Way Road Avoca, PA;

Naval & Marine Corps Reserve Center, 3938 Old French Road Erie, PA;

Naval & Marine Corps Reserve Center Lehigh Valley, PA, 1400 Postal Drive, Allentown, PA;

Naval & Marine Corps Reserve Center, 261 Industrial Park Road Ebensburg, PA;

Naval & Marine Corps Reserve Center Pittsburgh, PA, 625 East Pittsburgh McKeesport Blvd., North Versailles, PA;

Marine Corps Reserve Center, 615 Kenhorst Boulevard Reading, PA;

Naval & Marine Corps Reserve Center, 3920 Kirkwood Highway Wilmington, DE.

NPA: Human Technologies Corporation, Utica, NY.

Contracting Activity: Dept of the Navy, U.S. Fleet Forces Command, Norfolk, VA.

Barry S. Lineback,
Director, Business Operations.

[FR Doc. E9-13802 Filed 6-11-09; 8:45 am]

BILLING CODE 6353-01-P